DEPARTMENT OF THE INTERIOR

Bureau of Ocean Energy Management, Regulation and Enforcement

Ocean Energy Safety Advisory Committee; Notice of Meeting

AGENCY: Bureau of Ocean Energy Management, Regulation and Enforcement (BOEMRE), Interior.

ACTION: Notice of meeting.

SUMMARY: The Ocean Energy Safety Advisory Committee will meet at the U.S. Access Board in Washington, DC.

DATES: Monday, April 18, 2011, 8:30 a.m. to 5 p.m., EDT.

ADDRESSES: U.S. Access Board, 1331 F Street, NW., Suite 800, Washington, DC 20004.

FOR FURTHER INFORMATION CONTACT: Dr. Brad J. Blythe at the Bureau of Ocean Energy Management, Regulation and Enforcement, 381 Elden Street, Mail Stop 4040, Herndon, Virginia 20170-4187. He can be reached by telephone at (703) 787-1636 or by electronic mail at brad.blythe@boemre.gov.

SUPPLEMENTARY INFORMATION: The Ocean Energy Safety Advisory Committee consists of representatives from industry, Federal Government agencies, non-governmental organizations, and the academic community. It provides policy advice to the Secretary of the Interior through the Director of BOEMRE on matters relating to ocean energy safety, including, but not limited to drilling and workplace safety, well intervention and containment, and oil spill response.

The agenda for Monday, April 18, will address the scope and role of the Committee and begin framing the Committee's action plan for the next 12 to 24 months. The meeting will include an expert panel on the findings and recommendations of recent investigations of U.S. offshore drilling regulation.

The meeting is open to the public. Approximately 100 visitors can be accommodated on a first-come-first-served basis. Members of the public will have the opportunity to comment on a first-come-first-served basis during the time allotted for public comment and may submit written comments to the Ocean Energy Safety Advisory Committee during the meeting or by email to Dr. Blythe at brad.blythe@boemre.gov.

Minutes of the Ocean Energy Safety Advisory Committee meeting will be available for public inspection on the Committee's Web site at: http://www.boemre.gov/mmab/EnergySafety.htm.

Authority: Federal Advisory Committee Act, Pub. L. 92-463, 5 U.S.C. Appendix 1, and the Office of Management and Budget's Circular No. A-63, Revised.

Dated: March 28, 2011.
Michael R. Bromwich,
Director, Bureau of Ocean Energy, Management, Regulation and Enforcement.

[FR Doc. 2011-7650 Filed 3-31-11; 8:45 am]

BILLING CODE 4310-MR-P